DEPARTMENT OF TRANSPORTATION

Federal Aviation Administration

14 CFR Part 39

[Docket No. FAA-2016-9392; Product Identifier 2016-NM-003-AD]

RIN 2120-AA64

Airworthiness Directives; Zodiac Aero Evacuation Systems

AGENCY: Federal Aviation Administration (FAA), DOT.

ACTION: Supplemental notice of proposed rulemaking (SNPRM); reopening of comment period.

SUMMARY: We are revising an earlier proposal for Zodiac Aero Evacuation Systems (formerly known as Air Cruisers) fusible plugs installed on emergency evacuation equipment for various transport category airplanes. This action revises the notice of proposed rulemaking (NPRM) by extending the proposed compliance time, clarifying the applicability, and clarifying certain proposed requirements. We are proposing this airworthiness directive (AD) to address the unsafe condition on these products. Since these actions would impose an additional burden over those in the NPRM, we are reopening the comment period to allow the public the chance to comment on these changes.

DATES: The comment period for the NPRM published in the Federal Register on November 18, 2016 (81 FR 81709), is reopened.

We must receive comments on this SNPRM by March 12, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this SNPRM, contact Air Cruisers, 1747 State Route 34, Wall Township, NJ 07727-3935; phone 732-681-3527; email technicalpublications@zodiacaerospace.com. You may view this referenced service information at the FAA, Transport Standards Branch, 1601 Lind Avenue SW, Renton, WA. For information on the availability of this material at the FAA, call 425-227-1221. It is also available on the internet at http://www.regulations.gov by searching for and locating Docket No. FAA-2016-9392.

Examining the AD Docket

You may examine the AD docket on the internet at http://www.regulations.gov by searching for and locating Docket No. FAA-2016-9392; or in person at the Docket Management Facility between 9 a.m. and 5 p.m., Monday through Friday, except Federal holidays. The AD docket contains this SNPRM, the regulatory evaluation, any comments received, and other information. The street address for the Docket Office (telephone: 800-647-5527) is in the ADDRESSES section. Comments will be available in the AD docket shortly after receipt.

FOR FURTHER INFORMATION CONTACT: Cesar Gomez, Aerospace Engineer, Airframe and Mechanical Systems Section, FAA, New York ACO Branch, 1600 Stewart Avenue, Suite 410, Westbury, NY 11590; telephone 516-228-7318; fax 516-794-5531.

SUPPLEMENTARY INFORMATION:

Comments Invited

We invite you to send any written relevant data, views, or arguments about this proposal. Send your comments to an address listed under the ADDRESSES section. Include “Docket No. FAA-2016-9392; Product Identifier 2016-NM-003-AD” at the beginning of your comments. We specifically invite comments on the overall regulatory, economic, environmental, and energy aspects of this SNPRM. We will consider all comments received by the closing date and may amend this SNPRM based on those comments.

We will post all comments we receive, without change, to http://www.regulations.gov, including any personal information you provide. We will also post a report summarizing each substantive verbal contact we receive about this SNPRM.

Discussion

We issued an NPRM to amend 14 CFR part 39 by adding an AD that would apply Zodiac Aero Evacuation Systems fusible plugs installed on emergency evacuation equipment for various transport category airplanes. The NPRM published in the Federal Register on November 18, 2016 (81 FR 81709) (“the NPRM”). The NPRM was prompted by reports indicating that affected fusible plugs activated (vented gas) below the rated temperature. The NPRM proposed to require an inspection of the fusible plugs to determine the part number and lot number, and replacement of all affected fusible plugs.

Comments

We gave the public the opportunity to participate in developing the NPRM. We considered the comments received.

Support for the NPRM

One commenter, FedEx, stated no objection to the NPRM.

Requests To Withdraw the NPRM

Airlines for America (A4A), formerly known as the Air Transport Association of America (ATA), on behalf of its members, requested the NPRM be withdrawn and reissued after the following errors and omissions have been corrected:

• Errors in the applicability;

• A “needlessly aggressive” compliance time when taken into account with operators' normal procedures; and

• An inadequate cost estimate based on the need to inspect several slides per airplane, and the lack of taking into account the feasibility and safety of inspecting “on wing,” as opposed to inspecting during a shop visit.

American Airlines (AA), Air Cruisers, A4A (on behalf of its members), and Delta Air Lines (DAL) commented on the merits of issuing the NPRM. Some noted that operators already have routine maintenance inspections and pre-flight checks in place to evaluate the bottle pressure of emergency evacuation systems on airplanes; therefore, there is little to no risk of the occurrence of the unsafe condition identified in the NPRM.

A4A (on behalf of its members) added that, in light of pre-flight cabin inspections and the low potential of carrying a suspect plug, the risk to passenger safety is negligible. Air Cruisers stated it never delivered a shipset of evacuation slides with the suspect fusible plugs since widespread use of the fusible plugs was discontinued years before the suspect batch was produced.

We infer that these commenters request that we withdraw the NPRM. We do not agree to withdraw the proposal since the risk assessment determined the failure of the fusible plug to result in an unsafe condition; however, after careful consideration of the commenters' requests and rationale, data submitted by the manufacturer regarding parts availability, the commenters' recommended compliance time, and the degree of urgency to address the unsafe condition as determined by the risk assessment, we do agree to clarify the applicability and to extend the compliance time. We address applicability and the compliance time extension in subsequent comment responses. Regarding costs, the estimated costs are per slide and represent performing the actions during scheduled maintenance of the emergency evacuation equipment. Therefore, the cost estimates only account for the work required to replace the fusible plug and do not account for costs associated with getting access to the fusible plug and returning the emergency evacuation equipment to service.

Requests To Clarify the Affected Airplanes and Parts Specified in the Proposed AD

Several commenters requested that the NPRM be revised to clarify which airplanes and parts are affected. DAL specifically requested that paragraph (c) of the proposed AD (in the NPRM) be revised to specify all airplane models on which the affected fusible plugs are installed. However, DAL did not provide justification for its request.

AA requested that the applicability of the proposed AD (in the NPRM) be revised to include all possible inflation systems that have fusible plug part number (P/N) B13984-3 installed. AA noted that the Air Cruisers service information states that in addition to the inflation systems identified in the service information, other inflation systems not mentioned in the service information might have fusible plug P/N B13984-3 installed; therefore, any slide or bottle that has fusible plug P/N B13984-3 installed should be inspected. In addition, AA indicated that the proposed AD (in the NPRM) should include detailed compliance instructions for evacuation systems not identified in the Air Cruisers service information.

AA added that based on its initial research, additional affected components include the aft service door on Boeing Model MD-80 airplanes, and the over-wing escape slides on Airbus Model A319 and A320 airplanes, and Boeing Model 757 airplanes.

Cathay Pacific Airways (Cathay) noted that Boeing and Air Cruisers confirmed that the suspect fusible plugs were only installed in the reservoir and valve assemblies having a part number identified in Air Cruisers Service Information Letter (SIL) 25-246, Rev. No. 1, dated February 21, 2014 (“Air Cruisers SIL 25-246, Rev. No. 1”), and the applicable service bulletins identified in that service information.

Air Cruisers noted that the implied scope of the NPRM is too broad, and that an unsafe condition does not exist in emergency equipment other than that identified in the service information issued by Air Cruisers in August and December 2010.

Air Cruisers also stated that the inspection of the emergency evacuation equipment (including all inflation valves, reservoir and valve assemblies, and evacuation slides, slides/rafts, and life rafts) specified in paragraph (g) of the proposed AD (in the NPRM) is based on an assumption that fusible plugs are standard components used on all Air Cruisers inflation systems—and that the assumption is incorrect. Air Cruisers explained that many products do not have fusible plugs, and that fusible plugs were only required when certain early generation composite gas reservoirs were used in system design—and those were phased out in the 2003 to 2004 timeframe.

We agree to clarify which airplanes and parts are affected. Based upon confirmation of the affected parts and airplanes by Air Cruisers, we have revised paragraph (c) of the proposed AD (in the SNPRM) to specify that the proposed AD would apply to Air Cruisers fusible plugs installed on emergency evacuation equipment identified in the service information specified in paragraphs (c)(1) through (c)(16) of this proposed AD. Therefore, there is no need to include additional compliance instructions for evacuation emergency equipment not identified in the Air Cruisers service information. The service information is described under “Related Service Information under 1 CFR part 51” of this SNPRM.

Requests To Extend the Compliance Time

Air Cruisers, All Nippon Airways (ANA), Cathay, United Parcel Service (UPS), AA, Airbus, DAL, and A4A (on behalf of its members) requested that the compliance time proposed in paragraph (g) of the proposed AD (in the NPRM) be extended. The commenters stated that the proposed compliance time of 30 days is not adequate because there are several slides on each airplane and additional spare slide assemblies that also need to be inspected. The commenters also noted that the slide assembly has to be unpacked to gain access to the fusible plug for the inspection, and the slide unit would need to be discharged, inspected, repacked, and recertified—whether or not an affected fusible plug was identified.

Several of the commenters also mentioned that the repacking and recertification of the slide assemblies must be accomplished by a certified third party vendor. UPS noted that there are few repair facilities that have the capability of testing, repacking, and recertifying emergency evacuation slides, and that an estimated 16,920 inflatable assemblies owned by U.S. operators may need to be inspected. The commenters stated it would not be possible for the repair facilities to accomplish this task within the proposed 30-day compliance time.

A4A (on behalf of its members) added that the NPRM did not address the availability of the kits, and that it is unknown as to whether Zodiac can provide the required parts given a 30-day compliance time, and requested 48 months. UPS, Cathay, ANA, Airbus, AA, and DAL requested the compliance time be extended so they can accomplish the required actions during a standard overhaul period or next scheduled overhaul of the evacuation system. The extended compliance time requested by the commenters was between 36 to 48 months. The commenters noted there are routine inspections of the pressure of the inflated reservoir assemblies.

We agree that the compliance time should be revised. We had intended that the plug replacement occur during regularly scheduled maintenance on the evacuation systems for the majority of affected operators, when the airplanes would be located at a base where necessary special equipment and trained personnel would be readily available. After careful consideration of the commenters' requests and rationale, data submitted by the manufacturer regarding parts availability, the commenters' recommended compliance time, and the degree of urgency to address the unsafe condition, we have determined that extending the compliance time to 42 months will provide an acceptable level of safety. We have revised paragraph (g) of this AD accordingly.

Request To Allow Other Methods of Compliance for the Inspection

Air Cruisers and ANA requested that operators be allowed to show compliance with the requirements of the proposed AD (in the NPRM) if the actions in the Accomplishment Instructions of the applicable service bulletins identified in Air Cruisers SIL 25-246, Rev. No. 1 have been completed. Air Cruisers stated that it issued the 16 service bulletins identified in the SIL to identify the known systems and inflation valves that might be fitted with the subject fusible plugs from the affected lot numbers. Air Cruisers elaborated that verification of the accomplishment of the actions included in the 16 service bulletins should be sufficient to show compliance with the requirements of the proposed AD. ANA did not provide justification for its request.

AA requested that operators be allowed to show compliance with the requirements of the proposed AD (in the NPRM) by a review of maintenance records, without having to provide the lot number of the fusible plug installed. AA noted that although paragraph (g) of the proposed AD (in the NPRM) included a review of maintenance records, that paragraph would require that the part number and lot number be conclusively determined from that review. However, AA stated that a records review is not possible because the lot number is not identified on the maintenance records.

We partially agree with the commenters' requests for the reasons provided by the commenters. We have revised paragraph (g) of the proposed AD (in this SNPRM) to allow a review of maintenance records if that review can conclusively determine that the affected fusible plug was replaced with a part not having P/N B13984-3, and not stamped with Lot PA-21 or PA-22.

Request To Allow Other Methods of Compliance for the Replacement

Cathay and Air Cruisers requested we allow using the component maintenance manual (CMM) as a method of compliance for the replacement specified in paragraph (g) of the proposed AD (in the NPRM). Cathay stated that the vendor service information identified in Air Cruisers SIL 25-246, Rev. No. 1, provides procedures for replacing the affected fusible plugs. The commenter added that the vendor service information has been incorporated into the applicable “Reservoir and Valve Inflation Assembly” CMMs.

Air Cruisers noted that the CMMs should be used instead of using the vendor service information. The commenter stated it plans to add information to the CMMs similar to that specified in the service information.

We agree with the commenter's request that the CMM or Air Cruisers SIL 25-246, Rev. No. 1 may also be used to replace the fusible plug. The proposed AD (in the NPRM) already provides allowance for the use of the CMM or Air Cruisers SIL 25-246, Rev. No. 1 to provide guidance for replacing the affected fusible plug as stated in “Note 1 to paragraph (g) of this AD” in the proposed AD (in the NPRM). We have not changed this proposed AD in this regard.

Request To Remove the Reporting Requirement

ANA, UPS, Air Cruisers, AA, DAL, and A4A (on behalf of its members) requested that the reporting requirement in paragraph (h) of the proposed AD (in the NPRM) be removed. The commenters stated that the Air Cruisers service bulletins identified in Air Cruisers SIL 25-246, Rev. No. 1, do not mention reporting findings, and the operators that have already started replacing the fusible plugs using the information in those Air Cruisers service bulletins did not report their findings to Air Cruisers. DAL noted that the information in the Air Cruisers service bulletins identified in Air Cruisers SIL 25-246, Rev. No. 1, was included in the applicable component maintenance manuals in 2011, which has allowed sufficient time for the escape slide/rafts to have gone through a regular overhaul at least once. Any fusible plugs from the defective lots would have been removed and scrapped, but would not have been reported because the Air Cruisers service bulletins did not mention reporting.

We agree with the commenters' request. We have removed the reporting requirement from this proposed AD.

Related Service Information Under 1 CFR Part 51

We reviewed the following Air Cruisers service information. The service information identifies the affected fusible plugs. In addition, it describes procedures for inspecting and replacing affected fusible plugs. These documents are distinct since they apply to different airplane models or configurations.

• Air Cruisers Service Bulletin 737 103-25-50, dated August 27, 2010.

• Air Cruisers Service Bulletin 757 105-25-80, dated August 27, 2010.

• Air Cruisers Service Bulletin 757 105-25-81, dated August 27, 2010.

• Air Cruisers Service Bulletin 767 106-25-10, Rev. No. 1, dated October 15, 2010.

• Air Cruisers Service Bulletin 777 107-25-29, Rev. No. 1, dated July 8, 2011.

• Air Cruisers Service Bulletin A300/A310 001-25-19, dated August 27, 2010.

• Air Cruisers Service Bulletin A300/A310 003-25-33, dated August 27, 2010.

• Air Cruisers Service Bulletin A310 002-25-08, dated August 27, 2010.

• Air Cruisers Service Bulletin A320 004-25-87, Rev. No. 2, dated January 7, 2011.

• Air Cruisers Service Bulletin A321 005-25-21, dated August 27, 2010.

• Air Cruisers Service Bulletin BAe146 201-25-23, dated December 10, 2010.

• Air Cruisers Service Bulletin F28 352-25-02, dated December 10, 2010.

• Air Cruisers Service Bulletin F100 351-25-07, dated December 10, 2010.

• Air Cruisers Service Bulletin Liferaft 35-25-79, dated August 27, 2010.

• Air Cruisers Service Bulletin MD11 305-25-35, dated August 27, 2010.

• Air Cruisers Service Bulletin MD80/90/717 304-25-45, dated August 27, 2010.

• Air Cruisers Service Information Letter 25-246, Rev. No. 1, dated February 21, 2014.

This service information is reasonably available because the interested parties have access to it through their normal course of business or by the means identified in the ADDRESSES section.

FAA's Determination

We are proposing this SNPRM because we evaluated all the relevant information and determined the unsafe condition described previously is likely to exist or develop in other products of the same type design. Certain changes described above expand the scope of the NPRM. As a result, we have determined that it is necessary to reopen the comment period to provide additional opportunity for the public to comment on this SNPRM.

Proposed Requirements of This SNPRM

This SNPRM would require an inspection of the fusible plugs to determine the part number and lot number, and replacement of all affected fusible plugs.

Costs of Compliance

We estimate that this proposed AD affects 3,384 airplanes of U.S. registry. We estimate the following costs to comply with this proposed AD:

Estimated Costs
Action | Labor cost | Parts cost | Cost per product | Cost on U.S. operators
Determining part and lot number | 1 work-hour × $85 per hour = $85 | $0 | $85 | $287,640

We estimate the following costs per slide to do any necessary replacement of the fusible plug that would be required based on the results of the proposed inspection. We have no way of determining the number of aircraft that might need these replacements:

On-Condition Cost
Action | Labor cost | Parts cost | Cost per product
Replacing | 1 work-hour × $85 per hour = $85 | Not available | $85

According to the manufacturer, some of the costs of this proposed AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Zodiac Aero Evacuation Systems: Docket No. FAA-2016-9392; Product Identifier 2016-NM-003-AD.

(a) Comments Due Date

We must receive comments by March 12, 2018.

(b) Affected ADs

None.

(c) Applicability

This AD applies to Zodiac Aero Evacuation Systems fusible plugs installed on emergency evacuation equipment identified in the service information specified in paragraphs (c)(1) through (c)(16) of this AD. These affected fusible plugs might be installed on the emergency evacuation equipment of the following manufacturers' airplanes: Airbus, The Boeing Company, BAE Systems (Operations) Limited, and Fokker Services B.V.

(1) Air Cruisers Service Bulletin 737 103-25-50, dated August 27, 2010.

(2) Air Cruisers Service Bulletin 757 105-25-80, dated August 27, 2010.

(3) Air Cruisers Service Bulletin 757 105-25-81, dated August 27, 2010.

(4) Air Cruisers Service Bulletin 767 106-25-10, Rev. No. 1, dated October 15, 2010.

(5) Air Cruisers Service Bulletin 777 107-25-29, Rev. No. 1, dated July 8, 2011.

(6) Air Cruisers Service Bulletin A300/A310 001-25-19, dated August 27, 2010.

(7) Air Cruisers Service Bulletin A300/A310 003-25-33, dated August 27, 2010.

(8) Air Cruisers Service Bulletin A310 002-25-08, dated August 27, 2010.

(9) Air Cruisers Service Bulletin A320 004-25-87, Rev. No. 2, dated January 7, 2011.

(10) Air Cruisers Service Bulletin A321 005-25-21, dated August 27, 2010.

(11) Air Cruisers Service Bulletin BAe146 201-25-23, dated December 10, 2010.

(12) Air Cruisers Service Bulletin F28 352-25-02, dated December 10, 2010.

(13) Air Cruisers Service Bulletin F100 351-25-07, dated December 10, 2010.

(14) Air Cruisers Service Bulletin Liferaft 35-25-79, dated August 27, 2010.

(15) Air Cruisers Service Bulletin MD11 305-25-35, dated August 27, 2010.

(16) Air Cruisers Service Bulletin MD80/90/717 304-25-45, dated August 27, 2010.

(d) Subject

Air Transport Association (ATA) of America Code 25, Equipment/furnishings.

(e) Unsafe Condition

This AD was prompted by reports indicating that affected fusible plugs activated (vented gas) below the rated temperature. We are issuing this AD to detect and replace fusible plugs that might activate below the rated temperature, which renders the evacuation system unusable.

(f) Compliance

Comply with this AD within the compliance times specified, unless already done.

(g) Fusible Plug Identification

Within 42 months after the effective date of this AD, do an inspection to determine if any fusible plug has part number (P/N) B13984-3, stamped with Lot PA-21 or PA-22. A review of the airplane maintenance records is acceptable to make this determination if it can be conclusively determined from that review that a part not having P/N B13984-3, stamped with Lot PA-21 or PA-22, has been installed.

(h) Replacement of Affected Fusible Plug

If, during the inspection or records review required by paragraph (g) of this AD, it is determined that any fusible plug has part number (P/N) B13984-3, stamped with Lot PA-21 or PA-22: Before further flight, replace that fusible plug with a new part that does not have P/N B13984-3, stamped with Lot PA-21 or PA-22.

Note 1 to paragraph (h) of this AD: Guidance can be found in the applicable component maintenance manual (CMM) for the replacement. In addition, Air Cruisers Service Information Letter 25-246, Rev. No. 1, dated February 21, 2014, provides information regarding affected fusible plugs and guidance on the replacement.

(i) Parts Installation Prohibition

As of the effective date of this AD, no person may install on any airplane any fusible plug having P/N B13984-3, stamped with Lot PA-21 or PA-22.

(j) Alternative Methods of Compliance (AMOCs)

(1) The Manager, New York ACO Branch, FAA, has the authority to approve AMOCs for this AD, if requested using the procedures found in 14 CFR 39.19. In accordance with 14 CFR 39.19, send your request to your principal inspector or local Flight Standards District Office, as appropriate. If sending information directly to the certification office, send it to ATTN: Program Manager, Continuing Operational Safety, FAA, New York ACO Branch, 1600 Stewart Avenue, Suite 410, Westbury, NY 11590; telephone: 516-228-7300; fax: 516-794-5531.

(2) Before using any approved AMOC, notify your appropriate principal inspector, or lacking a principal inspector, the manager of the local flight standards district office/certificate holding district office.

(k) Related Information

(1) For more information about this AD, contact Cesar Gomez, Aerospace Engineer, Airframe and Mechanical Systems Section, FAA, New York ACO Branch, 1600 Stewart Avenue, Suite 410, Westbury, NY 11590; telephone 516-228-7318; fax 516-794-5531.

(2) For service information identified in this AD, contact Air Cruisers, 1747 State Route 34, Wall Township, NJ 07727-3935; phone 732-681-3527; email technicalpublications@zodiacaerospace.com. You may view this service information at the FAA, Transport Standards Branch, 1601 Lind Avenue SW, Renton, WA. For information on the availability of this material at the FAA, call 425-227-1221.

Issued in Renton, Washington, on January 5, 2018.
Michael Kaszycki,
Acting Director, System Oversight Division, Aircraft Certification Service.

[FR Doc. 2018-00951 Filed 1-23-18; 8:45 am]

BILLING CODE 4910-13-P